DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Protection and Advocacy for Individuals With Mental Illness (PAIMI) Final Rule, 42 CFR Part 51 (OMB No. 0930-0172)—Extension

These regulations meet the directive under 42 U.S.C. 10826(b) requiring the Secretary to promulgate final regulations to carry out the PAIMI Act. The regulations contain information collection requirements. The Act authorized funds to support activities on behalf of individuals with significant (severe) mental illness (adults) or emotional impairment (children/youth) 42 U.S.C. at 10802(4)]. However, only entities designated by the governor of each State and six (6) territories (the American Indian Consortium, American Samoa, Guam, the Northern Mariana Islands, Puerto Rico, and the U.S. Virgin Islands), and the Mayor of the District of Columbia to protect and advocate the rights of persons with developmental disabilities under Title I, Subtitle C—Protection and Advocacy of Individual Rights, of the Developmental Disabilities Assistance and Bill of Rights Act of 2000 [42 U.S.C. 150041 et seq.) are eligible to receive PAIMI grants [42 U.S.C. at 10802(2)]. PAIMI grants are based on a formula prescribed by the Secretary [42 U.S.C. at 10822(a)(1)(A)].

On January 1, each eligible State protection and advocacy (P&A) system is required to prepare and transmit to the Secretary and head of the State Mental Health Agency, in which the system is located, a report describing its activities, accomplishments, and expenditures during the most recently completed fiscal year. Section 10824(a) of the Act requires that the State P&A system's annual reports to the Secretary, shall describe its activities, accomplishments, and expenditures to protect the rights of individuals with mental illness supported with payments from PAIMI Program allotments. These include:

• The number of (PAIMI-eligible) individuals with mental illness served;

• A description of the types of activities undertaken;

• A description of the types of facilities providing care or treatment to which such activities are undertaken;

• A description of the manner in which the activities are initiated;

• A description of the accomplishments resulting from such activities;

• A description of systems to protect and advocate the rights of individuals with mental illness supported with payments from PAIMI Program allotments;

• A description of activities conducted by States to protect and advocate such rights;

• A description of mechanisms established by residential facilities for individuals with mental illness to protect such rights; and,

• A description of the coordination among such systems, activities and mechanisms;

• Specification of the number systems that are public and nonprofit systems established with PAIMI Program allotments;

• Recommendations for activities and services to improve the protection and advocacy of the rights of individuals with mental illness and a description of the needs for such activities and services which have not been met by the State P&A systems established under the PAIMI Act** [The PAIMI Rules 42 CFR part 51 at section 51.32(b) States that P&A systems may place restrictions on case or client acceptance criteria developed as part of its annual PAIMI priorities. However, prospective clients must be informed of any such restrictions at the time they request service].

This summary report must include a separate section, prepared by the PAIMI Advisory Council, that describes the council's activities and its assessment of the operations of the State P&A system. [42 U.S.C. 10805(7)].

The burden estimate for the annual State P&A system reporting requirements for these regulations is as follows:

42 CFR citation | Number of respondents | Responses per respondent | Burden per response (hrs.) | Total annual burden
51.(8)(a)(2) Program Performance Report | 57 | 1 | 26.0 | ¹ 1,596
51.8(8)(a)(8) Advisory Council Report | 57 | 1 | 10.0 | ¹ 570
51.10 Remedial Actions:
Corrective Action Plan | 6 | 1 | 8.0 | 48
Implementation Status Report | 6 | 3 | 2.0 | 36
51.23(c) Reports, materials and fiscal data provided to advisory Council | 57 | 1 | 1.0 | 57
51.25(b)(2) Grievance Procedure | 57 | 1 | .5 | 28.5
Total | 126 |  |  | 2,335.5
¹ Burden hours associated with these reports are approved under OMB Control No. 0930-0169.

Send comments to Summer King, SAMHSA Reports Clearance Officer, Room 7-1044, One Choke Cherry Road, Rockville, MD 20857. Written comments should be received within 60 days of this notice.

Dated: May 18, 2006.
Anna Marsh,
Director, Office of Program Services.

[FR Doc. E6-8116 Filed 5-25-06; 8:45 am]

BILLING CODE 4162-20-P